FEDERAL FINANCIAL INSTITUTIONS EXAMINATION COUNCIL

[Docket No. AS17-09]

Notice of Amendment to ASC Rules of Operation Governing Frequency of Regular Meetings of the Appraisal Subcommittee

AGENCY: Appraisal Subcommittee of the Federal Financial Institutions Examination Council.

ACTION: Notice of amendment to ASC Rules of Operation governing frequency of regular Meetings of the Appraisal Subcommittee.

SUMMARY: The Appraisal Subcommittee (ASC) of the Federal Financial Institutions Examination Council is amending section 3.06(e) of the ASC Rules of Operation, which addresses the scheduling of regular Meetings of the ASC. As amended, the ASC will meet at least quarterly instead of every two months (bi-monthly).

DATES: Applicable Date: Immediately.

FOR FURTHER INFORMATION CONTACT: James R. Park, Executive Director, at (202) 595-7575, or Alice M. Ritter, General Counsel, at (202) 595-7577, Appraisal Subcommittee, 1401 H Street NW, Suite 760, Washington, DC 20005.

SUPPLEMENTARY INFORMATION: The ASC, on May 29, 1991, adopted ASC Rules of Operation, which were published at 56 FR 28561 (June 21, 1991). The ASC Rules of Operation describe, among other things, the organization of ASC Meetings, notice requirements for Meetings, quorum requirements and certain practices regarding the disclosure of information. Section 3.06(e) as amended provides that the ASC will meet at least quarterly instead of every two months (bi-monthly).

The ASC is publishing amended Section 3.06(e) pursuant to 5 U.S.C. 552(a)(1)(C) governing publication of agency rules of operation in the Federal Register. The notice and publication requirements of 5 U.S.C. 553 do not apply to the adoption of Section 3.06(e) because it is a “rule of agency organization, procedure, or practice” exempt from the public notice and comment process under 5 U.S.C. 553(b)(3)(A).

Based on the foregoing, the ASC adopts amended Section 3.06(e) of the Rules of Operation, as follows, effective immediately:

Rules of Operation

* * * * *

Article III Organization and Operation of the ASC

* * * * *

Section 3.06. Organization of ASC Meetings.

* * * * *

(e) Regular meetings of the ASC shall be held at least quarterly, unless not practicable, at the call of the Chairperson. Special meetings shall be held as provided in section 3.07(b) below.

* * * * *

By the Appraisal Subcommittee.
Dated: December 15, 2017.
Arthur Lindo,
Chairman.

[FR Doc. 2017-27513 Filed 12-20-17; 8:45 am]

BILLING CODE 6700-01-P